DEPARTMENT OF TRANSPORTATION

Maritine Administration

[Docket No: MARAD 2005-22519]

Availability of a Draft Environmental Assessment

AGENCY: Maritime Administration, Department of Transportation.

ACTION: Notice of the availability of a Draft Environmental Assessment.

SUMMARY: The purpose of this Notice is to make available for public review and comment the Draft Environmental Assessment (DEA) for the Port of Anchorage, Cherry Hill Gravel Extraction Project (Project). The DEA analyzes the potential impacts on the natural and manmade environment associated with gravel extraction from Elmendorf Air Force Base to be used as fill for the Port of Anchorage Intermodal Expansion.

DATES: Comments on this DEA must be received by October 28, 2005.

FOR FURTHER INFORMATION CONTACT: Daniel E. Yuska, Jr., Environmental Protection Specialist, Office of Environmental Activities, U.S. Maritime Administration, 400 Seventh Street, SW., Washington, DC 20590; telephone (202) 366-0714, fax (202) 366-6988.

SUPPLEMENTARY INFORMATION: Comments may be submitted by mail to the Docket Clerk, U.S. DOT Dockets, Room PL-401, Department of Transportation, 400 Seventh St., SW., Washington, DC 20590-0001. Written comments should refer to docket number MARAD 2005—22519. All comments will become part of this docket and will be available for inspection and copying at the above address between 10 a.m. and 5 p.m., e.t., Monday through Friday, except federal holidays. An electronic version of this document and all documents entered into this docket are available at http://dms.dot.gov. No comments will be accepted after October 28, 2005. In addition, copies of the DEA are available for public viewing on the Port of Anchorage Web site (www.portofanchorage.org) or at the Loussac Library in Anchorage.

(Authority: 49 CFR 1.66)
By order of the Maritime Administrator.
Dated: September 22, 2005.
Joel C. Richard,
Secretary, Maritime Administration.

[FR Doc. 05-19288 Filed 9-27-05; 8:45 am]

BILLING CODE 4910-81-P